DEPARTMENT OF LABOR

Employment and Training Administration

[TA-W-52,590]

Delta International Machinery, Pentair Tool Group, Tupelo, MS; Notice of Termination of Investigation

Pursuant to Section 221 of the Trade Act of 1974, as amended, an investigation was initiated on August 18, 2003, in response to a worker petition filed by a company official on behalf of workers at Delta International Machinery, Pentair Tool Group, Tupelo, Mississippi.

The petitioning individual of the company has requested that this petition be withdrawn; therefore, further investigation would serve no purpose and the investigation is terminated.

Signed at Washington, DC, this 29th day of October, 2003.
Linda G. Poole,
Certifying Officer, Division of Trade Adjustment Assistance.

[FR Doc. 03-29278 Filed 11-21-03; 8:45 am]

BILLING CODE 4510-30-P